DEPARTMENT OF HEALTH AND HUMAN SERVICES

Public Meeting of the President's Council on Bioethics on July 24-25, 2003

AGENCY: The President's Council on Bioethics, HHS.

ACTION: Notice.

SUMMARY: The President's Council on Bioethics will hold its twelfth meeting, at which, among other things, it will hear and discuss presentations on “the research imperative” (Daniel Callahan); the ethics of stem cell research (Paul Lauritzen); recent developments in stem cell research (Rudolph Jaenisch, David Prentice, John Gearhart); and developments in stem cell research law and policy (Lori Andrews).

Subjects discussed at past Council meetings (and potentially touched on at this meeting) include: human cloning, embryo research, lifespan-extension research, organ procurement for transplantation, and extra-therapeutic powers to enhance or improve human mood, memory, or muscles. The Council may also discuss issues surrounding the regulation of assisted reproduction and reproductive genetics (including IVF, ICSI, PGD; sex selection, inheritable genetic modification; and the patentability of human genes, tissues, and organisms).

DATES: The meeting will take place Thursday, July 24, 2003, from 9 am to 5:15 pm ET; and Friday, July 25, 2003, from 8:30 am to 12:30 pm ET.

ADDRESSES: The Ritz-Carlton, 1150 22nd Street, NW., Washington, DC 20037.

Public Comments: The meeting agenda will be posted at http://www.bioethics.gov. Members of the public may comment, either in person or in writing. A period of time will be set aside during the meeting to receive comments from the public, beginning at 11:30 am, on Friday, July 25. Comments will be limited to no more than five minutes per speaker or organization. Please inform Ms. Diane Gianelli, Director of Communications, in advance of your intention to make a public statement, and please give her your name, affiliation, and a brief description of the topic or nature of your comments. To submit a written statement, mail or e-mail it to Ms. Gianelli at one of the addresses given below.

FOR FURTHER INFORMATION CONTACT: Ms. Diane Gianelli, Director of Communications, The President's Council on Bioethics, Suite 700, 1801 Pennsylvania Avenue, Washington, DC 20006. Telephone: 202/296-4669. E-mail: info@bioethics.gov. Web site: http://www.bioethics.gov.

Dated: June 30, 2003.
Dean Clancy,
Executive Director, The President's Council on Bioethics.

[FR Doc. 03-17057 Filed 7-3-03; 8:45 am]

BILLING CODE 4150-31-P